DEPARTMENT OF LABOR

Mine Safety and Health Administration

30 CFR Parts 7, 18, 44, 46, 48, 49, 56, 57, 70, 71, 72, 74, 75, and 90

MSHA Headquarters, Pittsburgh Safety and Health Technology Center, and Respirable Dust Processing Laboratory Address Changes

AGENCY: Mine Safety and Health Administration, Labor.

ACTION: Final rule; technical amendment.

SUMMARY: The Mine Safety and Health Administration (MSHA) is amending its published regulations that include the Agency's addresses. MSHA relocated its Headquarters offices and also will discontinue renting the Post Office boxes it uses for mail delivery to the Pittsburgh Safety and Health Technology Center and Respirable Dust Processing Laboratory. In addition, MSHA is amending the incorporation by reference language in some of its regulations to include current addresses, telephone numbers, and internet addresses.

DATES: Effective Date: September 2, 2015.

FOR FURTHER INFORMATION CONTACT: Sheila A. McConnell, Acting Director, Office of Standards, Regulations, and Variances, MSHA, at mcconnell.sheila.a@dol.gov (email); 202-693-9440 (voice); or 202-693-9441 (facsimile). These are not toll-free numbers.

SUPPLEMENTARY INFORMATION: On June 15, 2015, MSHA moved its Headquarters offices from 1100 Wilson Boulevard, Arlington, VA 22209-3939 to 201 12th Street South, Arlington, VA 22202-5452. MSHA is amending its regulations to include MSHA's new address.

MSHA is also amending its regulations to update the mailing address of MSHA's Office of Technical Support, Pittsburgh Safety and Health Technology Center. MSHA will discontinue renting the Post Office boxes it uses for mail delivery. The mailing address for the Pittsburgh Safety and Health Technology Center's Respirable Dust Processing Laboratory is 626 Cochrans Mill Road, Building 38, Pittsburgh, PA 15236-3611. The mailing address to submit seal design applications for approval by the Pittsburgh Safety and Health Technology Center is 626 Cochrans Mill Road, Building 151, Pittsburgh, PA 15236-3611.

In addition, MSHA made other non-substantive changes to correct inaccurate names: §§ 48.3, 48.23, and 48.32 contain a non-substantive change to the name of the Administrator for Metal and Nonmetal Mine Safety and Health; §§ 7.505, 56.2, 57.2, and 75.301 contain a non-substantive change to the name of the Office of Standards, Regulations, and Variances; and §§ 49.3, 49.4, and 49.8 contain a non-substantive change to remove an obsolete or inapplicable name.

MSHA is also amending previously approved incorporation by reference (IBR) language in some MSHA regulations. The amendments conform to current Office of the Federal Register (OFR) format requirements for an IBR regarding publisher addresses, telephone numbers, and internet addresses, and include contact information for the National Archives and Records Administration (NARA).

This technical amendment is a procedural “rule” under 5 U.S.C. 551(4), and is not subject to the notice-and-comment rulemaking requirements in 5 U.S.C. 553. This action also does not constitute a “regulatory action” subject to Executive Order 12866. Accordingly, the regulations in 30 CFR parts 7, 18, 44, 46, 48, 49, 56, 57, 70, 71, 72, 74, 75, and 90 are amended to include updated information.

List of Subjects

30 CFR Part 7

Explosives, Incorporation by reference, Mine safety and health, Reporting and recordkeeping requirements, Research.

30 CFR Part 18

Mine safety and health, Reporting and recordkeeping requirements.

30 CFR Part 44

Administrative practice and procedure, Mine safety and health, Reporting and recordkeeping requirements.

30 CFR Part 46

Education, Mine safety and health, Reporting and recordkeeping requirements.

30 CFR Part 48

Education, Mine safety and health, Reporting and recordkeeping requirements.

30 CFR Part 49

Education, Mine safety and health, Reporting and recordkeeping requirements.

30 CFR Part 56

Chemicals, Electric power, Explosives, Fire prevention, Hazardous substances, Incorporation by reference, Metals, Mine safety and health, Reporting and recordkeeping requirements.

30 CFR Part 57

Chemicals, Electric power, Explosives, Fire prevention, Gases, Hazardous substances, Incorporation by reference, Metals, Mine safety and health, Radiation protection, Reporting and recordkeeping requirements.

30 CFR Part 70

Incorporation by reference, Mine safety and health, Reporting and recordkeeping requirements.

30 CFR Part 71

Hazardous substances, Incorporation by reference, Mine safety and health, Reporting and recordkeeping requirements, Water supply.

30 CFR Part 72

Coal, Incorporation by reference, Mine safety and health.

30 CFR Part 74

Incorporation by reference, Mine safety and health, Occupational safety and health.

30 CFR Part 75

Communications equipment, Electric power, Emergency medical services, Explosives, Fire prevention, Incorporation by reference, Mine safety and health, Reporting and recordkeeping requirements.

30 CFR Part 90

Black lung benefits, Incorporation by reference, Mine safety and health, Reporting and recordkeeping requirements.

Dated: August 19, 2015.
Joseph A. Main,
Assistant Secretary of Labor for Mine Safety and Health.

For the reasons set out in the preamble, and under the authority of the Federal Mine Safety and Health Act of 1977, as amended, MSHA is amending chapter I of title 30 of the Code of Federal Regulations as follows:

PART 7—TESTING BY APPLICANT OR THIRD PARTY

1. The authority citation for part 7 continues to read as follows:

Authority: 30 U.S.C. 957.

2. Section 7.505 is amended by revising paragraph (b)(6) to read as follows:

§ 7.505 Structural components.

* * * * *

(b) * * *

(6) A test shall be conducted to demonstrate that each structure resists puncture and tearing when tested in accordance with ASTM D2582-07 “Standard Test Method for Puncture-Propagation Tear Resistance of Plastic Film and Thin Sheeting.” This publication is incorporated by reference. The Director of the Federal Register approves this incorporation by reference in accordance with 5 U.S.C. 552(a) and 1 CFR part 51. A copy may be obtained from the American Society for Testing and Materials (ASTM), 100 Barr Harbor Drive, P.O. Box C700, West Conshohocken, PA 19428-2959; 610-832-9500; http://www.astm.org. A copy may be inspected at any MSHA Coal Mine Safety and Health District Office; or at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html.

* * * * *

PART 18—ELECTRIC MOTOR-DRIVEN MINE EQUIPMENT AND ACCESSORIES

3. The authority citation for part 18 continues to read as follows:

Authority: 30 U.S.C. 957, 961.

4. Section 18.82 is amended by revising the second sentence of paragraph (a) to read as follows:

§ 18.82 Permit to use experimental electric face equipment in a gassy mine or tunnel.

(a) * * * The user shall submit a written application to the Assistant Secretary of Labor for Mine Safety and Health, 201 12th Street South, Arlington, VA 22202-5452, and send a copy to the U.S. Department of Labor, Mine Safety and Health Administration, Approval and Certification Center, 765 Technology Drive, Triadelphia, WV 26059.

* * * * *

PART 44—RULES OF PRACTICE FOR PETITIONS FOR MODIFICATION OF MANDATORY SAFETY STANDARDS

5. The authority citation for part 44 continues to read as follows:

Authority: 30 U.S.C. 957.

6. In § 44.10, revise the second sentence to read as follows:

§ 44.10 Filing of petition; service.

* * * All petitions must be in writing and must be filed with the Director, Office of Standards, Regulations, and Variances, Mine Safety and Health Administration, 201 12th Street South, Arlington, VA 22202-5452. * * *

7. Section 44.21 is amended by revising the third sentence in paragraph (a) to read as follows:

§ 44.21 Filing and form of documents.

(a) * * * While the petition is before the Assistant Secretary at any stage of the proceeding, all documents should be filed with the Assistant Secretary of Labor for Mine Safety and Health, 201 12th Street South, Arlington, VA 22202-5452.

* * * * *

PART 46—TRAINING AND RETRAINING OF MINERS ENGAGED IN SHELL DREDGING OR EMPLOYED AT SAND, GRAVEL, SURFACE STONE, SURFACE CLAY, COLLOIDAL PHOSPHATE, OR SURFACE LIMESTONE MINES

8. The authority citation for part 46 continues to read as follows:

Authority: 30 U.S.C. 811, 825.

9. Section 46.2 is amended by revising paragraph (d)(1)(iii) to read as follows:

§ 46.2 Definitions.

* * * * *

(d)(1) * * *

(iii) A person who began employment as a miner after April 14, 1999, but before October 2, 2000, and who has received new miner training under § 48.25 of this chapter or under proposed requirements published April 14, 1999, which are available from the Office of Standards, Regulations, and Variances, MSHA, 201 12th Street South, Arlington, VA 22202-5452; or,

* * * * *

10. Section 46.3 is amended by revising the first sentence in paragraph (h) to read as follows:

§ 46.3 Training plans.

* * * * *

(h) If you, miners, or miners' representatives wish to appeal a decision of the Regional Manager, you must send the appeal, in writing, to the Director for Educational Policy and Development, MSHA, 201 12th Street South, Arlington, VA 22202-5452, within 30 calendar days after notification of the Regional Manager's decision. * * *

* * * * *

PART 48—TRAINING AND RETRAINING OF MINERS

11. The authority citation for part 48 continues to read as follows:

Authority: 30 U.S.C. 811, 825.

12. Section 48.3 is amended by revising the third sentence in paragraph (i) to read as follows:

§ 48.3 Training plans; time of submission; where filed; information required; time for approval; method for disapproval; commencement of training; approval of instructors.

* * * * *

(i) * * * A decision by the District Manager to revoke an instructor's approval may be appealed by the instructor to the Administrator for Coal Mine Safety and Health or Administrator for Metal and Nonmetal Mine Safety and Health, as appropriate, MSHA, 201 12th Street South, Arlington, VA 22202-5452. * * *

* * * * *

13. Section 48.12 is amended by revising paragraph (a) to read as follows:

§ 48.12 Appeals procedures.

* * * * *

(a) In the event an operator, miner, or miners' representative decides to appeal a decision by a District Manager, such an appeal shall be submitted, in writing, to the Administrator for Coal Mine Safety and Health or the Administrator for Metal and Nonmetal Mine Safety and Health, as appropriate, MSHA, 201 12th Street South, Arlington, VA 22202-5452, within 30 days of notification of the District Manager's decision.

* * * * *

14. Section 48.23 is amended by revising the third sentence in paragraph (i) to read as follows:

§ 48.23 Training plans; time of submission; where filed; information required; time for approval; method for disapproval; commencement of training; approval of instructors.

* * * * *

(i) * * * A decision by the District Manager to revoke an instructor's approval may be appealed by the instructor to the Administrator for Coal Mine Safety and Health or the Administrator for Metal and Nonmetal Mine Safety and Health, as appropriate, MSHA, 201 12th Street South, Arlington, VA 22202-5452. * * *

* * * * *

15. Section 48.32 is amended by revising paragraph (a) to read as follows:

§ 48.32 Appeals procedures.

(a) In the event an operator, miner, or miners' representative decides to appeal a decision by the District Manager, such an appeal shall be submitted, in writing, to the Administrator for Coal Mine Safety and Health or the Administrator for Metal and Nonmetal Mine Safety and Health, as appropriate, MSHA, 201 12th Street South, Arlington, VA 22202-5452, within 30 days of notification of the District Manager's decision.

* * * * *

PART 49—MINE RESCUE TEAMS

16. The authority citation for part 49 continues to read as follows:

Authority: 30 U.S.C. 811, 825(e).

17. Section 49.3 is amended by revising the second sentence of paragraph (h)(2) to read as follows:

§ 49.3 Alternative mine rescue capability for small and remote mines.

* * * * *

(h) * * *

(2) * * * The operator may appeal this decision in writing to the Administrator for Metal and Nonmetal Mine Safety and Health, 201 12th Street South, Arlington, VA 22202-5452.

18. Section 49.4 is amended by revising the second sentence of paragraph (i)(2) to read as follows:

§ 49.4 Alternative mine rescue capability for special mining conditions.

* * * * *

(i) * * *

(2) * * * The operator may appeal this decision in writing to the Administrator for Metal and Nonmetal Mine Safety and Health, 201 12th Street South, Arlington, VA 22202-5452.

19. Section 49.8 is amended by revising the third sentence of paragraph (e) to read as follows:

§ 49.8 Training for mine rescue teams.

* * * * *

(e) * * * The affected instructor may appeal the decision of the District Manager by writing to the Administrator for Metal and Nonmetal Mine Safety and Health, MSHA, 201 12th Street South, Arlington, VA 22202-5452. * * *

* * * * *

PART 56—SAFETY AND HEALTH STANDARDS—SURFACE METAL AND NONMETAL MINES

20. The authority citation for part 56 continues to read as follows:

Authority: 30 U.S.C. 811.

21. In § 56.2, revise the definition for “Laminated partition” to read as follows:

§ 56.2 Definitions.

* * * * *

Laminated partition means a partition composed of the following material and minimum nominal dimensions: ½-inch-thick plywood, ½-inch-thick gypsum wallboard, ⅛-inch-thick low carbon steel, and ¼-inch-thick plywood, bonded together in that order (IME-22 Box). A laminated partition also includes alternative construction materials described in the Institute of Makers of Explosives (IME) Safety Library Publication No. 22, “Recommendations for the Safe Transportation of Detonators in a Vehicle with Other Explosive Materials” (May 1993), and the “Generic Loading Guide for the IME-22 Container” (October 1993). The IME is located at 1120 19th Street NW., Suite 310, Washington, DC 20036-3605; 202-429-9280; https://www.ime.org. This incorporation by reference has been approved by the Director of the Federal Register in accordance with 5 U.S.C. 552(a) and 1 CFR part 51. Copies are available at MSHA's Office of Standards, Regulations, and Variances, 201 12th Street South, Arlington, VA 22202-5452; 202-693-9440; and at all Metal and Nonmetal Mine Safety and Health District Offices, or available for inspection at the National Archives and Records Administration (NARA). For information on the availability of this material at NARA, call 202-741-6030, or go to: http://www.archives.gov/federal_register/code_of_federal_regulations/ibr_locations.html.

* * * * *

22. Section 56.6133 is amended by revising paragraph (b) to read as follows:

§ 56.6133 Powder chests.

* * * * *

(b) Detonators shall be kept in chests separate from explosives or blasting agents, unless separated by 4 inches of hardwood or equivalent, or a laminated partition. When a laminated partition is used, operators must follow the provisions of the Institute of Makers of Explosives (IME) Safety Library Publication No. 22, “Recommendations for the Safe Transportation of Detonators in a Vehicle with Other Explosive Materials” (May 1993), and the “Generic Loading Guide for the IME-22 Container” (October 1993). The IME is located at 1120 19th Street NW., Suite 310, Washington, DC 20036-3605; 202-429-9280; https://www.ime.org. This incorporation by reference has been approved by the Director of the Federal Register in accordance with 5 U.S.C. 552(a) and 1 CFR part 51. Copies are available at MSHA's Office of Standards, Regulations, and Variances, 201 12th Street South, Arlington, VA 22202-5452; 202-693-9440; and at all Metal and Nonmetal Mine Safety and Health District Offices, or available for inspection at the National Archives and Records Administration (NARA). For information on the availability of this material at NARA, call 202-741-6030, or go to: http://www.archives.gov/federal_register/code_of_federal_regulations/ibr_locations.html.

23. Section 56.6201 is amended by revising paragraphs (a)(2) and (b)(2) to read as follows:

§ 56.6201 Separation of transported explosive material.

* * * * *

(a) * * *

(2) Separated from explosives or blasting agents by 4 inches of hardwood or equivalent, or a laminated partition. The hardwood or equivalent shall be fastened to the vehicle or conveyance. When a laminated partition is used, operators must follow the provisions of the Institute of Makers of Explosives (IME) Safety Library Publication No.22, “Recommendations for the Safe Transportation of Detonators in a Vehicle with Other Explosive Materials” (May 1993), and the “Generic Loading Guide for the IME-22 Container” (October 1993). The IME is located at 1120 19th Street NW., Suite 310, Washington, DC 20036-3605; 202-429-9280; https://www.ime.org. This incorporation by reference has been approved by the Director of the Federal Register in accordance with 5 U.S.C. 552(a) and 1 CFR part 51. Copies are available at MSHA's Office of Standards, Regulations, and Variances, 201 12th Street South, Arlington, VA 22202-5452; 202-693-9440; and at all Metal and Nonmetal Mine Safety and Health District Offices, or available for inspection at the National Archives and Records Administration (NARA). For information on the availability of this material at NARA, call 202-741-6030, or go to: http://www.archives.gov/federal_register/code_of_federal_regulations/ibr_locations.html.

(b) * * *

(2) Separated from explosives or blasting agents by 4 inches of hardwood or equivalent, or a laminated partition. The hardwood or equivalent shall be fastened to the vehicle or conveyance. When a laminated partition is used, operators must follow the provisions of IME Safety Library Publication No. 22, “Recommendations for the Safe Transportation of Detonators in a Vehicle with Other Explosive Materials” (May 1993), and the “Generic Loading Guide for the IME-22 Container” (October 1993). The IME is located at 1120 19th Street NW., Suite 310, Washington, DC 20036-3605; 202-429-9280; https://www.ime.org. This incorporation by reference has been approved by the Director of the Federal Register in accordance with 5 U.S.C. 552(a) and 1 CFR part 51. Copies are available at MSHA's Office of Standards, Regulations, and Variances, 201 12th Street South, Arlington, VA 22202-5452; 202-693-9440; and at all Metal and Nonmetal Mine Safety and Health District Offices, or available for inspection at the National Archives and Records Administration (NARA). For information on the availability of this material at NARA, call 202-741-6030, or go to: http://www.archives.gov/federal_register/code_of_federal_regulations/ibr_locations.html.

24. Section 56.14130 is amended by revising paragraph (j) to read as follows:

§ 56.14130 Roll-over protective structures (ROPS) and seat belts.

* * * * *

(j) Publications. The incorporation by reference of these publications is approved by the Director of the Federal Register in accordance with 5 U.S.C. 552(a) and 1 CFR part 51. Copies of these publications may be examined at any Metal and Nonmetal Mine Safety and Health District Office; at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html. Copies may be purchased from the Society of Automotive Engineers, 400 Commonwealth Drive, Warrendale, PA 15096-0001; 724-776-4841; http://www.sae.org.

25. Section 56.14131 is amended by revising paragraph (d) to read as follows:

§ 56.14131 Seat belts for haulage trucks.

* * * * *

(d) The incorporation by reference of these publications is approved by the Director of the Federal Register in accordance with 5 U.S.C. 552(a) and 1 CFR part 51. Copies of these publications may be examined at any Metal and Nonmetal Mine Safety and Health District Office; at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html. Copies may be purchased from the Society of Automotive Engineers, 400 Commonwealth Drive, Warrendale, PA 15096-0001; 724-776-4841; http://www.sae.org.

PART 57—SAFETY AND HEALTH STANDARDS—UNDERGROUND METAL AND NONMETAL MINES

26. The authority citation for part 57 continues to read as follows:

Authority: 30 U.S.C. 811.

27. In § 57.2, revise the definition for “Laminated partition” to read as follows:

§ 57.2 Definitions.

* * * * *

Laminated partition means a partition composed of the following material and minimum nominal dimensions: ½-inch-thick plywood, ½-inch-thick gypsum wallboard, ⅛-inch-thick low carbon steel, and ¼-inch-thick plywood, bonded together in that order (IME-22 Box). A laminated partition also includes alternative construction materials described in the Institute of Makers of Explosives (IME) Safety Library Publication No. 22, “Recommendations for the Safe Transportation of Detonators in a Vehicle with Other Explosive Materials” (May 1993), and the “Generic Loading Guide for the IME-22 Container” (October 1993). The IME is located at 1120 19th Street NW., Suite 310, Washington, DC 20036-3605; 202-429-9280; https://www.ime.org. This incorporation by reference has been approved by the Director of the Federal Register in accordance with 5 U.S.C. 552(a) and 1 CFR part 51. Copies are available at MSHA's Office of Standards, Regulations, and Variances, 201 12th Street South, Arlington, VA 22202-5452; 202-693-9440; and at all Metal and Nonmetal Mine Safety and Health District Offices, or available for inspection at the National Archives and Records Administration (NARA). For information on the availability of this material at NARA, call 202-741-6030, or go to: http://www.archives.gov/federal_register/code_of_federal_regulations/ibr_locations.html.

* * * * *

28. Section 57.6133 is amended by revising paragraph (b) to read as follows:

§ 57.6133 Powder chests.

* * * * *

(b) Detonators shall be kept in chests separate from explosives or blasting agents, unless separated by 4 inches of hardwood or equivalent, or a laminated partition. When a laminated partition is used, operators must follow the provisions of the Institute of Makers of Explosives (IME) Safety Library Publication No. 22, “Recommendations for the Safe Transportation of Detonators in a Vehicle with Other Explosive Materials” (May 1993), and the “Generic Loading Guide for the IME-22 Container” (October 1993). The IME is located at 1120 19th Street NW., Suite 310, Washington, DC 20036-3605; 202-429-9280; https://www.ime.org. This incorporation by reference has been approved by the Director of the Federal Register in accordance with 5 U.S.C. 552(a) and 1 CFR part 51. Copies are available at MSHA's Office of Standards, Regulations, and Variances, 201 12th Street South, Arlington, VA 22202-5452; 202-693-9440; and at all Metal and Nonmetal Mine Safety and Health District Offices, or available for inspection at the National Archives and Records Administration (NARA). For information on the availability of this material at NARA, call 202-741-6030, or go to: http://www.archives.gov/federal_register/code_of_federal_regulations/ibr_locations.html.

29. Section 57.6201 is amended by revising paragraphs (a)(2) and (b)(2) to read as follows:

§ 57.6201 Separation of transported explosive material.

* * * * *

(a) * * *

(2) Separated from explosives or blasting agents by 4 inches of hardwood or equivalent, or a laminated partition. The hardwood or equivalent shall be fastened to the vehicle or conveyance. When a laminated partition is used, operators must follow the provisions of the Institute of Makers of Explosives (IME) Safety Library Publication No. 22, “Recommendations for the Safe Transportation of Detonators in a Vehicle with Other Explosive Materials” (May 1993), and the “Generic Loading Guide for the IME-22 Container” (October 1993). The IME is located at 1120 19th Street NW., Suite 310, Washington, DC 20036-3605; 202-429-9280; https://www.ime.org. This incorporation by reference has been approved by the Director of the Federal Register in accordance with 5 U.S.C. 552(a) and 1 CFR part 51. Copies are available at MSHA's Office of Standards, Regulations, and Variances, 201 12th Street South, Arlington, VA 22202-5452; 202-693-9440; and at all Metal and Nonmetal Mine Safety and Health District Offices, or available for examination at the National Archives and Records Administration (NARA). For information on the availability of this material at NARA, call 202-741-6030, or go to: http://www.archives.gov/federal_register/code_of_federal_regulations/ibr_locations.html.

(b) * * *

(2) Separated from explosives or blasting agents by 4 inches of hardwood or equivalent, or a laminated partition. The hardwood or equivalent shall be fastened to the vehicle or conveyance. When a laminated partition is used, operators must follow the provisions of IME Safety Library Publication No. 22, “Recommendations for the Safe Transportation of Detonators in a Vehicle with Other Explosive Materials” (May 1993), and the “Generic Loading Guide for the IME-22 Container” (October 1993). The IME is located at 1120 19th Street NW., Suite 310, Washington, DC 20036-3605; 202-429-9280; https://www.ime.org. This incorporation by reference has been approved by the Director of the Federal Register in accordance with 5 U.S.C. 552(a) and 1 CFR part 51. Copies are available at MSHA's Office of Standards, Regulations, and Variances, 201 12th Street South, Arlington, VA 22202-5452; 202-693-9440; and at all Metal and Nonmetal Mine Safety and Health District Offices, or available for examination at the National Archives and Records Administration (NARA). For information on the availability of this material at NARA, call 202-741-6030, or go to: http://www.archives.gov/federal_register/code_of_federal_regulations/ibr_locations.html.

30. Section 57.14130 is amended by revising paragraph (j) to read as follows:

§ 57.14130 Roll-over protective structures (ROPS) and seat belts for surface equipment.

* * * * *

(j) Publications. The incorporation by reference of these publications is approved by the Director of the Federal Register in accordance with 5 U.S.C. 552(a) and 1 CFR part 51. Copies of these publications may be examined at any Metal and Nonmetal Mine Safety and Health District Office; at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html. Copies may be purchased from the Society of Automotive Engineers, 400 Commonwealth Drive, Warrendale, PA 15096-0001; 724-776-4841; http://www.sae.org.

31. Section 57.14131 is amended by revising paragraph (d) to read as follows:

§ 57.14131 Seat belts for surface haulage trucks.

* * * * *

(d) The incorporation by reference of these publications is approved by the Director of the Federal Register in accordance with 5 U.S.C. 552(a) and 1 CFR part 51. Copies of these publications may be examined at any Metal and Nonmetal Mine Safety and Health District Office; at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html. Copies may be purchased from the Society of Automotive Engineers, 400 Commonwealth Drive, Warrendale, PA 15096-0001; 724-776-4841; http://www.sae.org.

32. Section 57.22005 is amended by revising the first sentence in paragraph (b) to read as follows:

§ 57.22005 Notice and appeal of placement or change in placement.

* * * * *

(b) The mine operator or representative of miners may obtain review of the Administrator's determination by filing a request for a hearing with the Assistant Secretary of Labor for Mine Safety and Health, Mine Safety and Health Administration, 201 12th Street South, Arlington, VA 22202-5452 within 30 days of the Administrator's determination. * * *

* * * * *

PART 70—MANDATORY HEALTH STANDARDS—UNDERGROUND COAL MINES

33. The authority citation for part 70 continues to read as follows:

Authority: 30 U.S.C. 811, 813(h), 957.

34. Section 70.204 is amended by revising paragraph (e) to read as follows:

§ 70.204 Approved sampling devices; maintenance and calibration.

* * * * *

(e) You must proceed in accordance with “Calibration and Maintenance Procedures for Coal Mine Respirable Dust Samplers,” MSHA Informational Report IR 1240 (1996), referenced in paragraph (a) of this section. The Director of the Federal Register approves this incorporation by reference in accordance with 5 U.S.C. 552(a) and 1 CFR part 51. You may obtain a copy from the MSHA Web site at http://www.msha.gov and you may inspect or obtain a copy at MSHA, Coal Mine Safety and Health, 201 12th Street South, Arlington, VA 22202-5452; 202-693-9500; and at each MSHA Coal Mine Safety and Health District Office, or at the National Archives and Records Administration (NARA). For information on the availability of this material at NARA, call 202-741-6030, or go to: http://www.archives.gov/federal_register/code_of_federal_regulations/ibr_locations.html.

35. Section 70.210 is amended by revising paragraph (a) to read as follows:

§ 70.210 Respirable dust samples; transmission by operator.

(a) If using a CMDPSU, the operator shall transmit within 24 hours after the end of the sampling shift all samples collected to fulfill the requirements of this part, including control filters, in containers provided by the manufacturer of the filter cassette to: Respirable Dust Processing Laboratory, Pittsburgh Safety and Health Technology Center, 626 Cochrans Mill Road, Building 38, Pittsburgh, PA 15236-3611, or to any other address designated by the District Manager.

* * * * *

36. Section 70.1900 is amended by revising paragraph (c) to read as follows:

§ 70.1900 Exhaust Gas Monitoring.

* * * * *

(c) Except as provided in § 75.325(j) of this chapter, when sampling results indicate a concentration of CO and/or NO2 exceeding an action level of 50 percent of the threshold limit values (TLV®) adopted by the American Conference of Governmental Industrial Hygienists, the mine operator shall immediately take appropriate corrective action to reduce the concentrations of CO and/or NO2 to below the applicable action level. The publication, “Threshold Limit Values for Substance in Workroom Air” (1972) is incorporated by reference and may be inspected at MSHA's Office of Standards, Regulations, and Variances, 201 12th Street South, Arlington, VA 22202-5452; 202-693-9440; at any MSHA Coal Mine Safety and Health District Office; or at the National Archives and Records Administration (NARA). For information on the availability of this material at NARA, call 202-741-6030, or go to: http://www.archives.gov/federal_register/code_of_federal_regulations/ibr_locations.html. This incorporation by reference was approved by the Director of the Federal Register in accordance with 5 U.S.C. 552(a) and 1 CFR part 51. In addition, copies of the document may be purchased from the American Conference of Governmental Industrial Hygienists, 1330 Kemper Meadow Drive, Attn: Customer Service, Cincinnati, OH 45240; 513-742-2020; http://www.acgih.org.

* * * * *

PART 71—MANDATORY HEALTH STANDARDS—SURFACE COAL MINES AND SURFACE WORK AREAS OF UNDERGROUND COAL MINES

37. The authority citation for part 71 continues to read as follows:

Authority: 30 U.S.C. 811, 813(h), 957.

38. Section 71.204 is amended by revising paragraph (e) to read as follows:

§ 71.204 Approved sampling devices; maintenance and calibration.

* * * * *

(e) You must proceed in accordance with “Calibration and Maintenance Procedures for Coal Mine Respirable Dust Samplers,” MSHA Informational Report IR 1240 (1996), referenced in paragraph (a) of this section. The Director of the Federal Register approves this incorporation by reference in accordance with 5 U.S.C. 552(a) and 1 CFR part 51. You may obtain a copy from the MSHA Web site at http://www.msha.gov and you may inspect or obtain a copy at MSHA, Coal Mine Safety and Health, 201 12th Street South, Arlington, VA 22202-5452; 202-693-9500; and at each MSHA Coal Mine Safety and Health District Office, or at the National Archives and Records Administration (NARA). For information on the availability of this material at NARA, call 202-741-6030, or go to: http://www.archives.gov/federal_register/code_of_federal_regulations/ibr_locations.html.

39. Section 71.207 is amended by revising paragraph (a) to read as follows:

§ 71.207 Respirable dust samples; transmission by operator.

(a) If using a CMDPSU, the operator shall transmit within 24 hours after the end of the sampling shift all samples collected to fulfill the requirements of this part, including control filters, in containers provided by the manufacturer of the filter cassette to: Respirable Dust Processing Laboratory, Pittsburgh Safety and Health Technology Center, 626 Cochrans Mill Road, Building 38, Pittsburgh, PA 15236-3611, or to any other address designated by the District Manager.

* * * * *

40. Section 71.402 is amended by revising paragraph (b) to read as follows:

§ 71.402 Minimum requirements for bathing facilities, change rooms, and sanitary flush toilet facilities.

* * * * *

(b) Bathing facilities, change rooms, and sanitary flush toilet facilities shall be constructed and equipped so as to comply with applicable State and local building codes. However, where no State or local building codes apply to these facilities, or where no State or local building codes exist, the facilities shall be constructed and equipped so as to meet the minimum construction requirements in the National Building Code (1967 edition) and the plumbing requirements in the National Plumbing Code (ASA A40.8-1955), which documents are hereby incorporated by reference and made a part hereof. These documents are available for examination at MSHA's Office of Standards, Regulations, and Variances, 201 12th Street South, Arlington, VA 22202-5452; 202-693-9440; and at every MSHA Coal Mine Safety and Health District Office. Copies of the National Plumbing Code (ASA A40.8-1955) may be purchased from the American National Standards Institute, Inc., 25 W. 43rd Street, 4th Floor, New York, NY 10036; http://www.ansi.org.

* * * * *

41. Section 71.700 is amended by revising paragraph (a) to read as follows:

§ 71.700 Inhalation hazards; threshold limit values for gases, dust, fumes, mists, and vapors.

(a) No operator of an underground coal mine and no operator of a surface coal mine may permit any person working at a surface installation or surface worksite to be exposed to airborne contaminants (other than respirable coal mine dust, respirable dust containing quartz, and asbestos dust) in excess of, on the basis of a time-weighted average, the threshold limit values adopted by the American Conference of Governmental Industrial Hygienists in “Threshold Limit Values of Airborne Contaminants” (1972), which is hereby incorporated by reference and made a part hereof. Excursions above the listed threshold limit values shall not be of greater magnitude than is characterized as permissible by the conference. This paragraph does not apply to airborne contaminants given a “C” designation by the conference in the document. This document is available for examination at MSHA's Office of Standards, Regulations, and Variances, 201 12th Street South, Arlington, VA 22202-5452; 202-693-9440; and at every MSHA Coal Mine Safety and Health District Office. Copies of the document may be purchased from the American Conference of Governmental Industrial Hygienists, 1330 Kemper Meadow Drive, Attn: Customer Service, Cincinnati, OH 45240; 513-742-2020; http://www.acgih.org.

* * * * *

PART 72—HEALTH STANDARDS FOR COAL MINES

42. The authority citation for part 72 continues to read as follows:

Authority 30 U.S.C. 811, 813(h), 957.

43. Revise § 72.710 to read as follows:

§ 72.710 Selection, fit, use, and maintenance of approved respirators.

In order to ensure the maximum amount of respiratory protection, approved respirators shall be selected, fitted, used, and maintained in accordance with the provisions of the American National Standards Institute's “Practices for Respiratory Protection ANSI Z88.2-1969,” which is hereby incorporated by reference. This publication may be obtained from the American National Standards Institute, Inc., 25 W. 43rd Street, 4th Floor, New York, NY 10036; http://www.ansi.org, and may be inspected at any MSHA Coal Mine Safety and Health District Office, or at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html. This incorporation by reference was approved by the Director of the Federal Register in accordance with 5 U.S.C. 552(a) and 1 CFR part 51.

PART 74—COAL MINE DUST SAMPLING DEVICES

44. The authority citation for part 74 continues to read as follows:

Authority: 30 U.S.C. 957.

45. Section 74.7 is amended by revising paragraphs (f)(1)(ii), (f)(2)(ii), and (g)(2) to read as follows:

§ 74.7 Design and construction requirements.

* * * * *

(f) * * *

(1) * * *

(ii) Persons may inspect a copy at MSHA, Office of Standards, Regulations, and Variances, 201 12th Street South, Arlington, VA 22202-5452, 202-693-9440, or at the National Archives and Records Administration (NARA). For information on the availability of this material at NARA, call 202-741-6030, or go to: http://www.archives.gov/federal_register/code_of_federal_regulations/ibr_locations.html.

(2) * * *

(ii) Persons may inspect a copy at MSHA, Office of Standards, Regulations, and Variances, 201 12th Street South, Arlington, VA 22202-5452, 202-693-9440, or at the National Archives and Records Administration (NARA). For information on the availability of this material at NARA, call 202-741-6030, or go to: http://www.archives.gov/federal_register/code_of_federal_regulations/ibr_locations.html.

(g) * * *

(2) Persons may inspect a copy at MSHA, Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html.

* * * * *

46. Section 74.8 is amended by revising paragraph (f)(2) to read as follows:

§ 74.8 Measurement, accuracy, and reliability requirements.

* * * * *

(f) * * *

(2) Persons may inspect a copy at MSHA, Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html.

47. Section 74.9 is amended by revising paragraph (a)(3) to read as follows:

§ 74.9 Quality assurance.

(a) * * *

(3) Persons may inspect a copy at MSHA, Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html.

* * * * *

PART 75—MANDATORY SAFETY STANDARDS—UNDERGROUND COAL MINES

48. The authority citation for part 75 continues to read as follows:

Authority: 30 U.S.C. 811, 813(h), 957.

49. In § 75.301, the definitions of “Noncombustible structure or area” and “Noncombustible material” are revised to read as follows:

§ 75.301 Definitions.

* * * * *

Noncombustible structure or area. Describes a structure or area that will continue to provide protection against flame spread for at least 1 hour when subjected to a fire test incorporating an ASTM E119-88 time/temperature heat input, or equivalent. The publication ASTM E119-88 “Standard Test Methods for Fire Tests of Building Construction and Materials” is incorporated by reference and may be inspected at any MSHA Coal Mine Safety and Health District Office, or at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html. In addition, copies of the document can be purchased from the American Society for Testing and Materials (ASTM), 100 Barr Harbor Drive, P.O. Box C700, West Conshohocken, PA 19428-2959; 610-832-9500; http://www.astm.org. This incorporation by reference was approved by the Director of the Federal Register in accordance with 5 U.S.C. 552(a) and 1 CFR part 51.

Noncombustible material. Describes a material that, when used to construct a ventilation control, results in a control that will continue to serve its intended function for 1 hour when subjected to a fire test incorporating an ASTM E119-88 time/temperature heat input, or equivalent. The publication ASTM E119-88 “Standard Test Methods for Fire Tests of Building Construction and Materials” is incorporated by reference and may be inspected at any Coal Mine Safety and Health District Office, or at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html. In addition, copies of the document can be purchased from the American Society for Testing and Materials (ASTM), 100 Barr Harbor Drive, P.O. Box C700, West Conshohocken, PA 19428-2959; 610-832-9500; http://www.astm.org. This incorporation by reference was approved by the Director of the Federal Register in accordance with 5 U.S.C. 552(a) and 1 CFR part 51.

* * * * *

50. Revise § 75.322 to read as follows:

§ 75.322 Harmful quantities of noxious gases.

Concentrations of noxious or poisonous gases, other than carbon dioxide, shall not exceed the threshold limit values (TLV) as specified and applied by the American Conference of Governmental Industrial Hygienists in “Threshold Limit Values for Substance in Workroom Air” (1972). Detectors or laboratory analysis of mine air samples shall be used to determine the concentrations of harmful, noxious, or poisonous gases. This incorporation by reference has been approved by the Director of the Federal Register in accordance with 5 U.S.C. 552(a) and 1 CFR part 51. Copies are available from MSHA's Office of Standards, Regulations, and Variances, 201 12th Street South, Arlington, VA 22202-5452; 202-693-9440; and at every MSHA Coal Mine Safety and Health District Office. The material is available for examination at the National Archives and Records Administration (NARA). For information on the availability of this material at NARA, call 202-741-6030, or go to: http://www.archives.gov/federal_register/code_of_federal_regulations/ibr_locations.html.

51. Section 75.333 is amended by revising paragraphs (d)(1), (e)(1)(i), (e)(3), and (f) to read as follows:

§ 75.333 Ventilation controls.

* * * * *

(d) * * *

(1) Made of noncombustible material or coated on all accessible surfaces with flame-retardant materials having a flame-spread index of 25 or less, as tested under ASTM E162-87, “Standard Test Method for Surface Flammability of Materials Using a Radiant Heat Energy Source.” This publication is incorporated by reference and may be inspected at any MSHA Coal Mine Safety and Health District Office, or at MSHA's Office of Standards, Regulations, and Variances, 201 12th Street South, Arlington, VA 22202-5452; 202-693-9440; and at the National Archives and Records Administration (NARA). For information on the availability of this material at NARA, call 202-741-6030, or go to: http://www.archives.gov/federal_register/code_of_federal_regulations/ibr_locations.html. In addition, copies of the document can be purchased from the American Society for Testing and Materials (ASTM), 100 Barr Harbor Drive, P.O. Box C700, West Conshohocken, PA 19428-2959; 610-832-9500; http://www.astm.org. This incorporation by reference was approved by the Director of the Federal Register in accordance with 5 U.S.C. 552(a) and 1 CFR part 51.

* * * * *

(e)(1)(i) Except as provided in paragraphs (e)(2), (3), and (4) of this section, all overcasts, undercasts, shaft partitions, permanent stoppings, and regulators, installed after June 10, 1996, shall be constructed in a traditionally accepted method and of materials that have been demonstrated to perform adequately or in a method and of materials that have been tested and shown to have a minimum strength equal to or greater than the traditionally accepted in-mine controls. Tests may be performed under ASTM E72-80, “Standard Methods of Conducting Strength Tests of Panels for Building Construction” (Section 12-Transverse Load-Specimen Vertical, load, only), or the operator may conduct comparative in-mine tests. In-mine tests shall be designed to demonstrate the comparative strength of the proposed construction and a traditionally accepted in-mine control. The publication ASTM E72-80, “Standard Methods of Conducting Strength Tests of Panels for Building Construction,” is incorporated by reference and may be inspected at any MSHA Coal Mine Safety and Health District Office, or at MSHA's Office of Standards, Regulations, and Variances, 201 12th Street South, Arlington, VA 22202-5452; 202-693-9440; and at the National Archives and Records Administration (NARA). For information on the availability of this material at NARA, call 202-741-6030, or go to: http://www.archives.gov/federal_register/code_of_federal_regulations/ibr_locations.html. In addition, copies of the document can be purchased from the American Society for Testing and Materials (ASTM), 100 Barr Harbor Drive, P.O. Box C700, West Conshohocken, PA 19428-2959; 610-832-9500; http://www.astm.org. This incorporation by reference was approved by the Director of the Federal Register in accordance with 5 U.S.C. 552(a) and 1 CFR part 51.

* * * * *

(3) When timbers are used to create permanent stoppings in heaving or caving areas, the stoppings shall be coated on all accessible surfaces with a flame-retardant material having a flame-spread index of 25 or less, as tested under ASTM E162-87, “Standard Test Method for Surface Flammability of Materials Using a Radiant Heat Energy Source.” This publication is incorporated by reference and may be inspected at any MSHA Coal Mine Safety and Health District Office, or at MSHA's Office of Standards, Regulations, and Variances, 201 12th Street South, Arlington, VA 22202-5452; 202-693-9440; and at the National Archives and Records Administration (NARA). For information on the availability of this material at NARA, call 202-741-6030, or go to: http://www.archives.gov/federal_register/code_of_federal_regulations/ibr_locations.html. In addition, copies of the document can be purchased from the American Society for Testing and Materials (ASTM), 100 Barr Harbor Drive, P.O. Box C700, West Conshohocken, PA 19428-2959; 610-832-9500; http://www.astm.org. This incorporation by reference was approved by the Director of the Federal Register in accordance with 5 U.S.C. 552(a) and 1 CFR part 51.

* * * * *

(f) When sealants are applied to ventilation controls, the sealant shall have a flame-spread index of 25 or less under ASTM E162-87, “Standard Test Method for Surface Flammability of Materials Using a Radiant Heat Energy Source.” This publication is incorporated by reference and may be inspected at any MSHA Coal Mine Safety and Health District Office, or at MSHA's Office of Standards, Regulations, and Variances, 201 12th Street South, Arlington, VA 22202-5452; 202-693-9440; and at the National Archives and Records Administration (NARA). For information on the availability of this material at NARA, call 202-741-6030, or go to: http://www.archives.gov/federal_register/code_of_federal_regulations/ibr_locations.html. In addition, copies of the document can be purchased from the American Society for Testing and Materials (ASTM), 100 Barr Harbor Drive, P.O. Box C700, West Conshohocken, PA 19428-2959; 610-832-9500; http://www.astm.org. This incorporation by reference was approved by the Director of the Federal Register in accordance with 5 U.S.C. 552(a) and 1 CFR part 51.

* * * * *

52. Section 75.335 is amended by revising the introductory text to paragraph (b) to read as follows:

§ 75.335 Seal strengths, design applications, and installation.

* * * * *

(b) Seal design applications. Seal design applications from seal manufacturers or mine operators shall be in accordance with paragraph (b)(1) or (2) of this section and submitted for approval to MSHA's Office of Technical Support, Pittsburgh Safety and Health Technology Center, 626 Cochrans Mill Road, Building 151, Pittsburgh, PA 15236-3611.

* * * * *

53. Section 75.523-1 is amended by revising the first sentence in paragraph (c) to read as follows:

§ 75.523-1 Deenergization of self-propelled electric face equipment installation requirements.

* * * * *

(c) An operator may apply to the Director of Technical Support, Mine Safety and Health Administration, Department of Labor, 201 12th Street South, Arlington, VA 22202-5452; 202-693-9440; for approval of the installation of devices to be used in lieu of devices that will quickly deenergize the tramming motors of self-propelled electric face equipment in the event of an emergency. * * *

54. Section 75.818 is amended by revising paragraph (b)(4) to read as follows:

§ 75.818 Use of insulated cable handling equipment.

* * * * *

(b) * * *

(4) Be electrically tested every 6 months in accordance with publication ASTM F496-97. ASTM F496-97 (Standard Specification for In-Service Care of Insulating Gloves and Sleeves, 1997) is incorporated by reference and may be inspected at any MSHA Coal Mine Safety and Health District Office, or at MSHA's Office of Standards, Regulations, and Variances, 201 12th Street South, Arlington, VA 22202-5452; 202-693-9440; and at the National Archives and Records Administration (NARA). For information on the availability of this material at NARA, call 202-741-6030, or go to: http://www.archives.gov/federal_register/code_of_federal_regulations/ibr_locations.html. In addition, copies of the document can be purchased from the American Society for Testing and Materials, 100 Barr Harbor Drive, P.O. Box C700, West Conshohocken, PA 19428-2959; 610-832-9500; http://www.astm.org. This incorporation by reference was approved by the Director of the Federal Register in accordance with 5 U.S.C. 552(a) and 1 CFR part 51.

55. Section 75.833 is amended by revising paragraph (c)(1) to read as follows:

§ 75.833 Handling high-voltage trailing cables.

* * * * *

(c) * * *

(1) The rubber gloves must be designed and maintained to have a voltage rating of at least Class 1 (7,500 volts) and tested every 30 days in accordance with publication ASTM F496-02a, “Standard Specification for In-Service Care of Insulating Gloves and Sleeves” (2002). The Director of the Federal Register approved this incorporation by reference in accordance with 5 U.S.C. 522(a) and 1 CFR part 51. ASTM F496-02a may be obtained from the American Society for Testing and Materials, 100 Barr Harbor Drive, P.O. Box C700, West Conshohocken, PA 19428-2959, call 610-832-9500 or go to http://www.astm.org. ASTM F496-02a is available for inspection at any MSHA Coal Mine Safety and Health District Office, at the MSHA Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html.

* * * * *

56. Section 75.1710-1 is amended by revising the first sentence in paragraph (f) to read as follows:

§ 75.1710-1 Canopies or cabs; self-propelled diesel-powered and electric face equipment; installation requirements.

* * * * *

(f) An operator may apply to the Director of Technical Support, Mine Safety and Health Administration, Department of Labor, 201 12th Street South, Arlington, VA 22202-5452, for approval of the installation of devices to be used in lieu of substantially constructed canopies or cabs on self-propelled diesel-powered and electric face equipment. * * *

57. In § 75.1900, the definition of “Noncombustible material” is revised to read as follows:

§ 75.1900 Definitions.

* * * * *

Noncombustible material. A material that will continue to serve its intended function for 1 hour when subjected to a fire test incorporating an ASTM E119-88 time/temperature heat input, or equivalent. The publication ASTM E119-88 “Standard Test Methods for Fire Tests of Building Construction and Materials” is incorporated by reference and may be inspected at any MSHA Coal Mine Safety and Health District Office; at MSHA's Office of Standards, Regulations, and Variances, 201 12th Street South, Arlington, VA 22202-5452; 202-693-9440; or at the National Archives and Records Administration (NARA). For information on the availability of this material at NARA, call 202-741-6030, or go to: http://www.archives.gov/federal_register/code_of_federal_regulations/ibr_locations.html. This incorporation by reference was approved by the Director of the Federal Register in accordance with 5 U.S.C. 552(a) and 1 CFR part 51. In addition, copies of the document may be purchased from the American Society for Testing and Materials (ASTM), 100 Barr Harbor Drive, P.O. Box C700, West Conshohocken, PA, 19428-2959; 610-832-9500; http://www.astm.org.

* * * * *

PART 90—MANDATORY HEALTH STANDARDS—COAL MINERS WHO HAVE EVIDENCE OF PNEUMOCONIOSIS

58. The authority citation for part 90 continues to read as follows:

Authority: 30 U.S.C. 811, 813(h), 957.

59. Section 90.3 is amended by revising paragraph (d) and the first sentence in paragraph (e) to read as follows:

§ 90.3 Part 90 option; notice of eligibility; exercise of option.

* * * * *

(d) The option to work in a low dust area of the mine may be exercised for the first time by any miner employed at a coal mine who was eligible for the option under the old section 203(b) program (http://www.msha.gov/REGSTECHAMEND.htm), or is eligible for the option under this part by sending a written request to the Chief, Division of Health, Coal Mine Safety and Health, MSHA, 201 12th Street South, Arlington, VA 22202-5452.

(e) The option to work in a low dust area of the mine may be re-exercised by any miner employed at a coal mine who exercised the option under the old section 203(b) program (http://www.msha.gov/REGSTECHAMEND.htm) or exercised the option under this part by sending a written request to the Chief, Division of Health, Coal Mine Safety and Health, MSHA, 201 12th Street South, Arlington, VA 22202-5452. * * *

* * * * *

61. Section 90.204 is amended by revising paragraph (e) to read as follows:

§ 90.204 Approved sampling devices; maintenance and calibration.

* * * * *

(e) You must proceed in accordance with “Calibration and Maintenance Procedures for Coal Mine Respirable Dust Samplers,” MSHA Informational Report IR 1240 (1996), referenced in paragraph (a) of this section. The Director of the Federal Register approves this incorporation by reference in accordance with 5 U.S.C. 552(a) and 1 CFR part 51. You may obtain a copy from the MSHA Web site at http://www.msha.gov and you may inspect or obtain a copy at MSHA, Coal Mine Safety and Health, 201 12th Street South, Arlington, VA 22202-5452; 202-693-9500; and at each MSHA Coal Mine Safety and Health District Office, or at the National Archives and Records Administration (NARA). For information on the availability of this material at NARA, call 202-741-6030, or go to: http://www.archives.gov/federal_register/code_of_federal_regulations/ibr_locations.html.

62. Section 90.208 is amended by revising paragraph (a) to read as follows:

§ 90.208 Respirable dust samples; transmission by operator.

(a) If using a CMDPSU, the operator shall transmit within 24 hours after the end of the sampling shift all samples collected to fulfill the requirements of this part, including control filters, in containers provided by the manufacturer of the filter cassette to: Respirable Dust Processing Laboratory, Pittsburgh Safety and Health Technology Center, 626 Cochrans Mill Road, Building 38, Pittsburgh, PA 15236-3611, or to any other address designated by the District Manager.

* * * * *

[FR Doc. 2015-21054 Filed 9-1-15; 8:45 am]

BILLING CODE 4510-43-P